DEPARTMENT OF ENERGY

[OE Docket No. EA-145-D]

Application To Export Electric Energy; Powerex Corp.

AGENCY: Office of Electricity Delivery and Energy Reliability, DOE.

ACTION: Notice of Application.

SUMMARY: Powerex Corp. (Powerex) has applied for renewal of its authority to transmit electric energy from the United States to Mexico pursuant to section 202(e) of the Federal Power Act.

DATES: Comments, protests, or requests to intervene must be submitted on or before December 24, 2008.

ADDRESSES: Comments, protests, or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On May 30, 1997, the Department of Energy (DOE) issued Order No. EA-145 authorizing Powerex to transmit electric energy from the United States to Mexico as a power marketer for a two-year term. That Order was subsequently renewed on June 18, 1999, in Order No. EA-145-A; on August 13, 2001, in Order No. EA-145-B; and on April 26, 2004, in Order No. EA-145-C. The current export authorization will expire on April 26, 2009. On October 23, 2008, Powerex filed an application with DOE to renew the export authority contained in Order No. EA-145-C for an additional five-year term.

Powerex, the wholly owned marketing subsidiary of the British Columbia Hydro and Power Authority (BC Hydro), does not own or control any transmission facilities nor does it have a franchised service area. The electric energy which Powerex proposes to export to Mexico would be surplus energy purchased from BC Hydro or other Canadian utilities, from other power marketers, independent power producers, or U.S. electric utilities and Federal power marketing agencies in the United States.

Powerex will arrange for the delivery of exports to Mexico over the international transmission facilities owned by San Diego Gas & Electric Company. The construction, operation, maintenance, and connection of each of the international transmission facilities to be utilized by Powerex was previously authorized by a Presidential permit issued pursuant to Executive Order 10485, as amended.

DOE expects exporters of electric energy to obtain the necessary authorization from DOE to export electricity and to abide by the terms and conditions established for such export in the Orders issued by DOE, including any term limit for the authorization and the requirement to create and preserve full and complete records and file quarterly reports. Failure to first obtain an Order authorizing the export of electricity, or continuing to export after the expiration of such an Order, may result in a denial of authorization to export in the future and subject the exporter to sanctions and penalties under the FPA. DOE also expects transmitting utilities owning border facilities and entities charged with the operational control of those border facilities, such as Independent System Operators or RTO's, to verify that companies seeking to schedule an electricity export have the requisite authority from DOE to export such power.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each comment, petition, and protest should be filed with DOE on or before the dates listed above.

All filings in this proceeding should be clearly marked with Docket No. EA-145-D. Additional copies are to be filed directly with Mike MacDougall, Director, Trade Policy, Powerex Corp., 666 Burrard Street, Suite 1400, Vancouver, British Columbia, Canada V6C 2X8.

A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://oe.energy.gov/permits_pending.htm, or by emailing Odessa Hopkins at odessa.hopkins@hq.doe.gov.

Issued in Washington, DC, on November 19, 2008.
Anthony J. Como,
Director, Permitting and Siting, Office of Electricity Delivery and Energy Reliability.

[FR Doc. E8-27836 Filed 11-21-08; 8:45 am]

BILLING CODE 6450-01-P